DEPARTMENT OF TRANSPORTATION

Federal Aviation Administration

14 CFR Part 39

[Docket No. FAA-2011-0225; Directorate Identifier 2010-NM-211-AD; Amendment 39-16773; AD 2011-17-09]

RIN 2120-AA64

Airworthiness Directives; Airbus Model A330-200 and -300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

* * * * *

The airworthiness limitations applicable to the Safe Life Airworthiness Limitation Items (SL ALI) are given in Airbus A330 ALS Part 1 and A340 ALS Part 1, which are approved by the European Aviation Safety Agency (EASA).

The revision 05 of Airbus A340 ALS Part 1 introduces more restrictive maintenance requirements and/or airworthiness limitations. Failure to comply with this revision constitutes an unsafe condition.

For A330 aeroplanes, this EASA AD retains the requirements of EASA AD 2010-0131, which it supersedes.

For A340 aeroplanes, this EASA AD supersedes EASA AD 2009-0192, and requires the implementation of the new or more restrictive maintenance requirements and/or airworthiness limitations as specified in Airbus A340 ALS Part 1, revision 05.

The unsafe condition is fatigue cracking, damage, and corrosion in certain structure, which could result in reduced structural integrity of the airplane. We are issuing this AD to require actions to correct the unsafe condition on these products.

DATES: This AD becomes effective September 30, 2011.

The Director of the Federal Register approved the incorporation by reference of a certain publication listed in this AD as of September 30, 2011.

The Director of the Federal Register approved the incorporation by reference of a certain other publication listed in this AD as of June 7, 2006 (71 FR 25919, May 3, 2006).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on March 22, 2011 (76 FR 15872). That NPRM proposed to correct an unsafe condition for the specified products. The MCAI states:

The airworthiness limitations are currently distributed in the Airbus A330 Airworthiness Limitations Section (ALS) and A340 ALS.

The airworthiness limitations applicable to the Safe Life Airworthiness Limitation Items (SL ALI) are given in Airbus A330 ALS Part 1 and A340 ALS Part 1, which are approved by the European Aviation Safety Agency (EASA).

The revision 05 of Airbus A340 ALS Part 1 introduces more restrictive maintenance requirements and/or airworthiness limitations. Failure to comply with this revision constitutes an unsafe condition.

For A330 aeroplanes, this EASA AD retains the requirements of EASA AD 2010-0131, which it supersedes.

For A340 aeroplanes, this EASA AD supersedes EASA AD 2009-0192, and requires the implementation of the new or more restrictive maintenance requirements and/or airworthiness limitations as specified in Airbus A340 ALS Part 1, revision 05.

The unsafe condition is fatigue cracking, damage, and corrosion in certain structure, which could result in reduced structural integrity of the airplane. You may obtain further information by examining the MCAI in the AD docket.

Comments

We gave the public the opportunity to participate in developing this AD. We considered the comment received.

Request To Include Variations to the Airworthiness Limitations Section (ALS) Specified in Paragraph (h)

Delta stated that Airbus Variations 0GVLG100008C0S to Revision 04, dated July 7, 2010, of Airbus A330 ALS Part 1, “Safe Life Airworthiness Limitation Items,” and 0GVLG110009C0S to Revision 05, dated March 31, 2011, of Airbus A330 ALS Part 1, “Safe Life Airworthiness Limitation Items,” are approved variations to Airbus A330 ALS Part 1, “Safe Life Airworthiness Limitation Items,” Revision 05, dated July 29, 2010, as defined in paragraph (h) of the NPRM. Delta recommends that these variations be included in the requirements in paragraph (h).

We do not agree with the commenter's request. Based on information received from Airbus, those variations are not mandatory, but offer an alternative method of compliance (AMOC) to the requirements in paragraph (h) of this AD. We do not consider it appropriate to include various provisions in an AD applicable only to certain airplanes or to a single operator's unique use of an affected airplane. Individual operators may request approval of an AMOC under the provisions of paragraph (j) of this AD, provided sufficient data are submitted to substantiate such a request. We have not changed the AD in this regard.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 55 products of U.S. registry.

The actions that are required by AD 2006-09-07, Amendment 39-14577 (71 FR 25919, May 3, 2006), take about 1 work-hour per product, at an average labor rate of $85 per work hour. Based on these figures, the estimated cost of the currently required actions is $85 per product.

We estimate that it will take about 1 work-hour per product to comply with the requirements of this AD. The average labor rate is $85 per work-hour. Based on these figures, we estimate the cost of the AD on U.S. operators to be $4,675, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-17-09 Airbus: Amendment 39-16773. Docket No. FAA-2011-0225; Directorate Identifier 2010-NM-211-AD.

Effective Date

(a) This airworthiness directive (AD) becomes effective September 30, 2011.

Affected ADs

(b) AD 2011-17-08, Amendment 39-16772, also published in today's Federal Register, is affected by this AD. AD 2011-17-08 supersedes AD 2006-09-07, Amendment 39-14577 (71 FR 25919, May 3, 2006). The requirements of paragraph (f)(2) of AD 2006-09-07 (paragraph (g) of AD 2011-17-08) for Airbus Model A330 airplanes are restated in this AD.

Applicability

(c) This AD applies to Airbus Model A330-201, -202, -203, -223, -223F, -243, and -243F airplanes, and Model A330-301, -302, -303, -321, -322, -323, -341, -342, and -343 airplanes, certificated in any category, all manufacturer serial numbers.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j)(1) of this AD. The request should include a description of changes to the required inspections that will ensure the continued operational safety of the airplane.

Subject

(d) Air Transport Association (ATA) of America Code 05.

Reason

(e) The mandatory continuing airworthiness information (MCAI) states:

* * * * *

The airworthiness limitations applicable to the Safe Life Airworthiness Limitation Items (SL ALI) are given in Airbus A330 ALS Part 1 and A340 ALS Part 1, which are approved by the European Aviation Safety Agency (EASA).

The revision 05 of Airbus A340 ALS Part 1 introduces more restrictive maintenance requirements and/or airworthiness limitations. Failure to comply with this revision constitutes an unsafe condition.

For A330 aeroplanes, this EASA AD retains the requirements of EASA AD 2010-0131, which it supersedes.

For A340 aeroplanes, this EASA AD supersedes EASA AD 2009-0192, and requires the implementation of the new or more restrictive maintenance requirements and/or airworthiness limitations as specified in Airbus A340 ALS Part 1, revision 05.

The unsafe condition is fatigue cracking, damage, and corrosion in certain structure, which could result in reduced structural integrity of the airplane.

Compliance

(f) You are responsible for having the actions required by this AD performed within the compliance times specified, unless the actions have already been done.

Restatement of Requirements of Paragraph (f)(2) of AD 2006-09-07: Airworthiness Limitations Revision

(g) For Model A330-201, -202, -203, -223, -243, -301, -302, -303, -321, -322, -323, -341, -342, and -343 airplanes: Within 3 months after June 7, 2006 (the effective date of AD 2006-09-07 (71 FR 25919, May 3, 2006)), revise the ALS of the Instructions for Continued Airworthiness by incorporating Section 9-1 “Life limit/Monitored parts,” Revision 05, dated April 7, 2005, of the Airbus A330 Maintenance Planning Document, into the ALS.

New Requirements of This AD

Revise the Maintenance Program

(h) Within 3 months after the effective date of this AD: Revise the maintenance program by incorporating Airbus A330 ALS Part 1, “Safe Life Airworthiness Limitation Items,” Revision 05, dated July 29, 2010. Comply with all Airbus A330 ALS Part 1, “Safe Life Airworthiness Limitation Items,” Revision 05, dated July 29, 2010, at the times specified therein. Accomplishing the revision in this paragraph ends the requirements in paragraph (g) of this AD.

Alternative Intervals or Limits

(i) Except as provided by paragraph (j)(1) of this AD, after accomplishing the actions specified in paragraph (h) of this AD, no alternatives to the maintenance tasks, intervals, or limitations specified in paragraph (h) of this AD may be used.

FAA AD Differences

Note 2: This AD differs from the MCAI and/or service information as follows:

(1) Although the applicability in the MCAI also identifies Airbus Model A340-200, -300, -500, and -600 series airplanes, this AD only applies to Airbus Model A330-200 and -300 series airplanes. FAA AD 2011-04-06, Amendment 39-16606 (76 FR 8610, February 15, 2011), addresses Model A340-200, -300, -500, and -600 series airplanes.

(2) The applicability in the MCAI does not specify Model A330-223F and -243F airplanes. Those models are listed in the applicability of this AD.

(3) The MCAI requires incorporating Airbus A330 ALS Part 1, “Safe Life Airworthiness Limitation Items,” Revision 04, dated January 28, 2010; however, this AD requires incorporating Airbus A330 ALS Part 1, “Safe Life Airworthiness Limitation Items,” Revision 05, dated July 29, 2010, which adds the airworthiness limitation items for Model A330-223F and -243F airplanes.

Other FAA AD Provisions

(j) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue, SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI EASA Airworthiness Directive 2010-0253, dated December 3, 2010; Section 9-1 “Life limit/Monitored parts” Revision 05, dated April 7, 2005, of the Airbus A330 Maintenance Planning Document; and Airbus A330 ALS Part 1, “Safe Life Airworthiness Limitation Items,” Revision 05, dated July 29, 2010; for related information.

Material Incorporated by Reference

(l) You must use Airbus A330 ALS Part 1, “Safe Life Airworthiness Limitation Items,” Revision 05, dated July 29, 2010; and Airbus A330 ALS Section 9-1 “Life limit/Monitored parts” Revision 05, dated April 7, 2005, of the Airbus A330 Maintenance Planning Document; as applicable; to do the actions required by this AD, unless the AD specifies otherwise. The revision level of Airbus A330 ALS Part 1, “Safe Life Airworthiness Limitation Items,” Revision 05, dated July 29, 2010, is indicated only on the title page and in the Record of Revisions of this document; the revision date of this document is not indicated on the title page of this document.

(1) The Director of the Federal Register approved the incorporation by reference of Airbus A330 ALS Part 1, “Safe Life Airworthiness Limitation Items,” Revision 05, dated July 29, 2010, under 5 U.S.C. 552(a) and 1 CFR part 51.

(2) The Director of the Federal Register previously approved the incorporation by reference of Section 9-1 “Life limit/Monitored parts,” Revision 05, dated April 7, 2005, of the Airbus A330 Maintenance Planning Document, on June 7, 2006 (71 FR 25919, May 3, 2006).

(3) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on August 2, 2011.
Ali Bahrami,
Manager, Transport Airplane Directorate, Aircraft Certification Service.

[FR Doc. 2011-21625 Filed 8-25-11; 8:45 am]

BILLING CODE 4910-13-P